DEPARTMENT OF LABOR

Employment and Training Administration

Labor Certification Process for the Temporary Employment of Aliens in Agriculture in the United States: Adverse Effect Wage Rate for Range Occupations in 2018; Correction

AGENCY: Employment and Training Administration, Department of Labor.

ACTION: Notice: Correction.

SUMMARY: The Employment and Training Administration (ETA) of the Department of Labor (Department) published a notice in the Federal Register on December 22, 2017, announcing the 2018 Adverse Effect Wage Rate (AEWR) for the employment of temporary or seasonal nonimmigrant foreign workers (H-2A workers) to perform herding or production of livestock on the range. That notice contained two different figures as the 2018 AEWR, one correct ($1,584.22/month) and the other incorrect. This notice corrects the incorrect figure.

DATES: January 1, 2018.

FOR FURTHER INFORMATION CONTACT: William W. Thompson, II, Administrator, Office of Foreign Labor Certification, Box #12-200, Employment & Training Administration, U.S. Department of Labor, 200 Constitution Avenue NW., Washington, DC 20210. Telephone number: 202-513-7350 (this is not a toll-free number).

Individuals with hearing or speech impairments may access the telephone number above via TTY by calling the toll-free Federal Information Relay Service at 1-877-889-5627.

Correction

In the Federal Register of Friday, December 22, 2017, in FR Doc. 17-27530, on page 60768, in the third column, correct the first paragraph to read:

Thus, the national monthly AEWR rate for all range occupations in the H-2A program in 2018 is calculated by multiplying the full AEWR for calendar year 2017 by the 2018 ECI adjustment ($1544.07 × 1.026 = $1,584.22). Accordingly, any employer certified or seeking certification for range workers must pay each worker a wage that is at least the highest of the monthly AEWR of $1,584.22, the agreed-upon collective bargaining wage, or the applicable minimum wage imposed by Federal or State legislation or judicial action, at the time work is performed on or after the effective date of this notice.

Nancy Rooney,
Deputy Assistant Secretary, Employment and Training Administration.

[FR Doc. 2017-28399 Filed 12-28-17; 4:15 pm]

BILLING CODE 4510-FP-P